NUCLEAR REGULATORY COMMISSION

Request for a License to Import Radioactive Waste

Pursuant to 10 CFR 110.70(C) “Public notice of receipt of an application,” please take notice that the Nuclear Regulatory Commission has received the following request for an import license. Copies of the request are available electronically through ADAMS and can be accessed through the Public Electronic Reading Room (PERR) link http://www.nrc.gov/NRC/ADAMS/index.html at the NRC Home page.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this request follows.

NRC Import License Application
Name of applicant, date of application, date received, application number, docket number | Description of material | End use | Country of origin
Eastern Technologies, Inc., Ashford, AL, February 3, 2006 | Class A radioactive waste consisting of corrosion activation and mixed fission products (predominantly Co-60, Co-58 and Mn-54) as contaminants on used protective clothing and other items | Laundering and decontamination of protective clothing and related products used at the Laguna Verde Nuclear Power Plant located in Mexico | Mexico.
February 3, 2006 IW016 11005602

For the Nuclear Regulatory Commission.
Dated this 24th day of February 2006 at Rockville, Maryland.
Stephen Dembek,
Acting Director, Office of International Programs.

[FR Doc. 06-2094 Filed 3-3-06; 8:45 am]

BILLING CODE 7590-01-P